DEPARTMENT OF TRANSPORTATION

Federal Aviation Administration

Notice of Intent To Rule on Request To Release Airport Property at the South Texas Regional Airport at Hondo, Texas

AGENCY: Federal Aviation Administration (FAA), DOT.

ACTION: Notice of request to release airport property.

SUMMARY: The FAA proposes to rule and invite public comment on the release of land at the South Texas Regional Airport at Hondo under the provisions of Section 125 of the Wendell H. Ford Aviation Investment Reform Act for the 21st Century (AIR 21).

DATES: Comments must be received on or before March 9, 2015.

ADDRESSES: Comments on this application may be mailed or delivered to the FAA at the following address: Mr. Ed Agnew, Manager, Federal Aviation Administration, Southwest Region, Airports Division, Texas Airports Development Office, ASW-650, Fort Worth, Texas 76137.

In addition, one copy of any comments submitted to the FAA must be mailed or delivered to Mr. Jeff Litchfield, City Manager, at the following address: 1600 Avenue M, Hondo, Texas 78861.

FOR FURTHER INFORMATION CONTACT: Mr. Anthony Mekhail, Program Manager, Federal Aviation Administration, Texas Airports Development Office, ASW-650, 2601 Meacham Boulevard, Fort Worth, Texas 76137, Telephone: (817) 222-5663, email: Anthony.Mekhail@faa.gov, fax: (817) 222-5989. The request to release property may be reviewed in person at this same location.

SUPPLEMENTARY INFORMATION: The FAA invites public comment on the request to release property at the South Texas Regional Airport at Hondo under the provisions of the AIR 21.

The following is a brief overview of the request:

The City of Hondo requests the release of 25.855 acres of aeronautical airport property. The property is located south of Runway 35L and just north of the railroad tracks. The property to be released will be sold and revenues shall be used for the operation and maintenance at the airport. Any person may inspect the request in person at the FAA office listed above under FOR FURTHER INFORMATION CONTACT.

In addition, any person may, upon request, inspect the application, notice and other documents relevant to the application in person at the South Texas Regional Airport at Hondo, telephone number (830) 426-3380.

Issued in Fort Worth, Texas, on January 29, 2015.
Lacey Spriggs,
Acting Manager, Airports Division.

[FR Doc. 2015-02320 Filed 2-4-15; 8:45 am]

BILLING CODE 4910-13-P